DEPARTMENT OF VETERANS AFFAIRS

Advisory Committee on OIF/OEF Veterans and Families; Notice of Meeting

The Department of Veterans Affairs (VA) gives notice under Public Law 92-463 (Federal Advisory Committee Act) that a subcommittee of the Advisory Committee on OIF/OEF Veterans and Families will conduct a site visit in the Las Vegas, Nevada area on June 26-28, 2007. The site visit will include a town hall meeting, tours and briefings at various VA facilities, and a tour of Nellis AFB medical facilities. The town hall meeting will be open to the public.

The purpose of the Committee is to advise the Secretary of Veterans Affairs on the full spectrum of health care, benefits delivery and related family support issues that confront servicemembers during their transition from active duty to veteran status and during their post-service years. The Committee focuses on the concerns of all men and women with active military service in Operation Iraqi Freedom and/or Operation Enduring Freedom, but pays particular attention to severely disabled veterans and their families.

On June 26, the subcommittee will attend a veterans small business conference at the Caesars Palace Hotel and will receive afternoon briefings by Nellis AFB officials. On June 27, the subcommittee will tour several VA medical clinics and will receive briefings by Veterans Health Administration and Veterans Benefits Administration personnel on issues of particular relevance to OIF/OEF veterans and their families. The subcommittee will conduct a two hour town hall meeting beginning at 7 p.m. in the Jewel Box Theater at the Clark County Library, 1401 E. Flamingo Road, Las Vegas, Nevada. On June 28, the subcommittee will hold a wrap up session to review and analyze the previous days' briefings. That session will be held at the MGM Grand, 3799 Las Vegas Boulevard South, Las Vegas, Nevada.

Public comments will be received by the subcommittee at the town hall meeting on June 27. Individuals wishing to make oral statements at the meeting should contact the Committee at oifoef@va.gov. Just prior to the town hall meeting, there will also be a sign up sheet for people to register their interest in making public statements. Oral statements by the public will be limited to five minutes each.

Anyone seeking additional information should contact Ronald Thomas, Esq., Designated Federal Officer, at (202) 273-5182.

Dated: June 6, 2007.
By direction of the Secretary.
E. Philip Riggin,
Committee Management Officer.

[FR Doc. 07-2889 Filed 6-11-07; 8:45 am]

BILLING CODE 8320-01-M